SECURITIES AND EXCHANGE COMMISSION

[File No. 500-1]

The Bank Holdings, Community Valley Bancorp, Genemen, Inc., GWS Technologies, Inc., Homeland Precious Metals Corp., and NuRx Pharmaceuticals, Inc.; Order of Suspension of Trading

June 11, 2014.

It appears to the Securities and Exchange Commission that there is a lack of current and accurate information concerning the securities of The Bank Holdings because it has not filed any periodic reports since the period ended December 31, 2009.

It appears to the Securities and Exchange Commission that there is a lack of current and accurate information concerning the securities of Community Valley Bancorp because it has not filed any periodic reports since the period ended June 30, 2010.

It appears to the Securities and Exchange Commission that there is a lack of current and accurate information concerning the securities of Genemen, Inc. because it has not filed any periodic reports since the period ended February 28, 2010.

It appears to the Securities and Exchange Commission that there is a lack of current and accurate information concerning the securities of GWS Technologies, Inc. because it has not filed any periodic reports since the period ended January 31, 2010.

It appears to the Securities and Exchange Commission that there is a lack of current and accurate information concerning the securities of Homeland Precious Metals Corp. because it has not filed any periodic reports since the period ended March 31, 2010.

It appears to the Securities and Exchange Commission that there is a lack of current and accurate information concerning the securities of NuRx Pharmaceuticals, Inc. because it has not filed any periodic reports since the period ended June 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 11, 2014, through 11:59 p.m. EDT on June 24, 2014.

By the Commission.
Jill M. Peterson,
Assistant Secretary.

[FR Doc. 2014-13987 Filed 6-11-14; 4:15 pm]

BILLING CODE 8011-01-P